DEPARTMENT OF AGRICULTURE

Forest Service

Northeast Oregon Forests Resource Advisory Committee (RAC)

AGENCY: Forest Service, USDA.

ACTION: Notice of meetings.

SUMMARY: Pursuant to the authorities in the Federal Advisory Committees Act (Pub. L. 92-463), the Northeast Oregon Forests Resource Advisory Committee (RAC) will meet via teleconference on September 27, 2006. The purpose of the meeting is to meet as a Committee to review proposed projects for fiscal year 2007.

DATES: The meeting will be held as follows: September 27, 2006, 1 p.m. to 2 p.m. in John Day, Oregon.

ADDRESSES: The September 27, 2006 teleconference meeting will be held at the Malheur National Forest Supervisor's Office, 431 Patterson Bridge Rd., John Day, Oregon 97845.

FOR FURTHER INFORMATION CONTACT: Jennifer Harris, Designated Federal Official, USDA, Malheur National Forest, P.O. Box 909, John Day, Oregon 97845. Phone: (541) 575-3008.

SUPPLEMENTARY INFORMATION: A public comment period will be provided at 1:05 p.m. and individuals will have the opportunity to address the committee at that time.

Dated: September 5, 2006.
Jennifer L. Harris,
Designated Federal Official.

[FR Doc. 06-7586 Filed 9-11-06; 8:45 am]

BILLING CODE 3410-DK-M